DEPARTMENT OF TRANSPORTATION

Federal Aviation Administration

14 CFR Part 39

[Docket No. FAA-2005-20755; Directorate Identifier 2004-NM-244-AD; Amendment 39-14176; AD 2005-13-39]

RIN 2120-AA64

Airworthiness Directives; Airbus Model A321-100 and -200 Series Airplanes

AGENCY: Federal Aviation Administration (FAA), Department of Transportation (DOT).

ACTION: Final rule.

SUMMARY: The FAA is superseding an existing airworthiness directive (AD), which applies to Airbus Model A321 series airplanes. That AD currently requires revising the Limitations section of the airplane flight manual to include an instruction to use Flap 3 for landing when performing an approach in conditions of moderate to severe icing, significant crosswind (i.e., crosswinds greater than 20 knots, gust included), or moderate to severe turbulence. This new AD requires replacing existing elevator and aileron computers (ELACs) with ELACs having either L83 or L91 software, as applicable, which terminates the requirements of the existing AD. This AD also requires a related concurrent action. In addition, this AD revises the applicability by removing airplanes with these ELAC software standards incorporated in production. This AD is prompted by issuance of mandatory continuing airworthiness information by a civil airworthiness authority. We are issuing this AD to prevent roll oscillations during approach and landing in certain icing, crosswind, and turbulent conditions, which could result in reduced controllability of the airplane.

DATES: This AD becomes effective August 9, 2005.

The incorporation by reference of certain publications listed in the AD is approved by the Director of the Federal Register as of August 9, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20755; the directorate identifier for this docket is 2004-NM-244-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The FAA proposed to amend 14 CFR part 39 with an AD to supersede AD 2004-03-02, amendment 39-13446 (69 FR 5007, February 3, 2004). The existing AD applies to all Airbus Model A321 series airplanes. The proposed AD was published in the Federal Register on March 30, 2005 (70 FR 16167), to require revising the airplane flight manual (AFM) to specify procedures for landing under certain conditions of icing, significant crosswind, or moderate to severe turbulence, until the new requirements of this new AD have been accomplished. That action also proposed to require replacing existing elevator and aileron computers (ELACs) with ELACs having either L83 or L91 software, as applicable, which would terminate the requirements of the existing AD. That action also proposed to require a related concurrent action. In addition, that action also proposed to revise the applicability by removing airplanes with these ELAC software standards incorporated in production.

Comment

We provided the public the opportunity to participate in the development of this AD. We have considered the comment that has been submitted on the proposed AD.

Support for the Proposed AD

The commenter supports the proposed AD.

Explanation of Change to Applicability

We have revised the applicability of the proposed AD to identify model designations as published in the most recent type certificate data sheet for the affected models.

Conclusion

We have carefully reviewed the available data, including the comment that has been submitted, and determined that air safety and the public interest require adopting the AD with the change described previously. We have determined that this change will neither increase the economic burden on any operator nor increase the scope of the AD.

Costs of Compliance

The following tables provide the estimated costs for U.S. operators to comply with this AD.

Estimated Costs
Action | Work hour | Average labor rate per hour | Parts | Cost per airplane | Number of U.S.-registered airplanes | Fleet cost
AFM revision (required by AD 2004-03-02) | 1 | $65 | None | $65 | 29 | $1,885
Installation of ELACs having L83 or L91 software (new required action) | 1 | 65 | No charge | 65 | 29 | 1,885

Estimated Concurrent Service Bulletin Costs
Action | Work hour | Average labor rate per hour | Parts | Cost per airplane | Number of U.S.-registered airplanes | Fleet cost
Installation or ELACs having L81 software | 1 | $65 | No charge | $65 | 29 | $1,885

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13446 (69 FR 5007, February 3, 2004) and adding the following new airworthiness directive (AD):

2005-13-39 Airbus: Amendment 39-14176. Docket No. FAA-2005-20755; Directorate Identifier 2004-NM-244—AD.

Effective Date

(a) This AD becomes effective August 9, 2005.

Affected ADs

(b) This AD supersedes AD 2004-03-02, amendment 39-13446.

Applicability: (c) This AD applies to Airbus Model A321-111, -112, -131, -211, and -231 airplanes; certificated in any category; except those with Airbus Modification 34043 installed in production.

Unsafe Condition

(d) This AD was prompted by issuance of mandatory continuing airworthiness information by a civil airworthiness authority. We are issuing this AD to prevent roll oscillations during approach and landing in certain icing, crosswind, and turbulent conditions, which could result in reduced controllability of the airplane.

Compliance: (e) You are responsible for having the actions required by this AD performed within the compliance times specified, unless the actions have already been done.

Restatement of Requirements of AD 2004-03-02: Airplane Flight Manual Revision

(f) Within 10 days after February 18, 2004 (the effective date of AD 2004-03-02), revise the Limitations section of the airplane flight manual (AFM) to include the following statement. This may be done by inserting a copy of this AD into the AFM.

“A321 Approach and Landing (Roll Control) When moderate to severe icing conditions, or significant crosswind (i.e., crosswinds greater than 20 knots, gust included), or moderate to severe turbulence are anticipated:

Use FLAP 3 for landing.”

Note 1: When a statement identical to that in paragraph (f) of this AD has been included in the general revisions of the AFM, the general revisions may be inserted into the AFM, and the copy of this AD may be removed from the AFM.

New Requirements of This AD: Installation of Elevator and Aileron Computers (ELACs) Having L83 or L91 Software

(g) Within 16 months after the effective date of this AD: Replace existing ELACs with ELACs having L83 software, by accomplishing all of the actions specified in the Accomplishment Instructions of Airbus Service Bulletin A320-27-1151, including Appendix 01, dated March 9, 2004; or with ELACs having L91 software, by accomplishing all of the actions specified in the Accomplishment Instructions of Airbus Service Bulletin A320-27-1152, including Appendix 01, dated June 4, 2004; as applicable. After accomplishing the ELAC replacements, remove the AFM revision required by paragraph (f) of this AD. Accomplishing the requirements of this paragraph terminates the requirements of paragraph (f) of this AD.

Note 2: Airbus Service Bulletin A320-27-1151 refers to Thales Service Bulletin 394512-27-026, dated March 5, 2004, as an additional source of service information for installing ELAC L83 software. Airbus Service Bulletin A320-27-1152 refers to Thales Service Bulletin 394512B-27-010, dated May 24, 2004, as an additional source of service information for installing ELAC L91 software.

Concurrent Service Bulletin

(h) Prior to doing the requirements of paragraph (g) of this AD: Install ELACs having L81 software in accordance with the Accomplishment Instructions of Airbus Service Bulletin A320-27-1135, Revision 02, dated April 18, 2002.

Previously Accomplished Actions in Concurrent Service Bulletin

(i) Installation of ELACs having L81 software in accordance with the Accomplishment Instructions of Airbus Service Bulletin A320-27-1135, dated June 29, 2001; or Service Bulletin A320-27-1135, Revision 01, dated August 31, 2001; is acceptable for compliance with the requirements of paragraph (h) of this AD.

Part Installation

(j) As of the effective date of this AD, no person may install on any airplane an ELAC, part number 3945122506, 3945123506, 3945128102, or 3945128103.

Alternative Methods of Compliance (AMOCs)

(k)(1) The Manager, International Branch, ANM-116, Transport Airplane Directorate, FAA, has the authority to approve AMOCs for this AD, if requested in accordance with the procedures found in 14 CFR 39.19.

(2) Alternative methods of compliance, approved previously in accordance with AD 2004-03-02, are approved as alternative methods of compliance with the corresponding requirements of this AD.

Related Information

(l) French airworthiness directive F-2004-147, dated August 18, 2004, also addresses the subject of this AD.

Material Incorporated by Reference

(m) You must use the service information listed in Table 1 of this AD to perform the actions that are required by this AD, unless the AD specifies otherwise. The Director of the Federal Register approves the incorporation by reference of these documents in accordance with 5 U.S.C. 552(a) and 1 CFR part 51. To get copies of the service information, contact Airbus, 1 Rond Point Maurice Bellonte, 31707 Blagnac Cedex, France. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 1.—Material Incorporated by Reference
Airbus service bulletin | Revision level | Date
A320-27-1135 | 02 | April 18, 2002.
A320-27-1151, including Appendix 01 | Original | March 9, 2004.
A320-27-1152, including Appendix 01 | Original | June 4, 2004.

Issued in Renton, Washington, on June 17, 2005.
Michael J. Kaszycki,
Acting Manager, Transport Airplane Directorate, Aircraft Certification Service.

[FR Doc. 05-12843 Filed 7-1-05; 8:45 am]

BILLING CODE 4910-13-P